DEPARTMENT OF AGRICULTURE

Food and Nutrition Service

Privacy Act; Proposed New System of Records

AGENCY: Food and Nutrition Service (FNS), USDA.

ACTION: Notice of a new system of records.

SUMMARY: Pursuant to the provisions of the Privacy Act of 1974, and Office of Management and Budget (OMB) Circular No. A-108, notice is given that the Food and Nutrition Service (FNS) of the U.S. Department of Agriculture (USDA) is proposing to add a new system of records, entitled USDA/FNS-14, National Accuracy Clearinghouse (NAC) System to Detect Duplicate Participation. The NAC will enhance program integrity in the Supplemental Nutrition Assistance Program (SNAP) by providing a secure method for State agencies that administer SNAP (State agencies) to share information to prevent and detect duplicate participation.

DATES: In accordance with 5 U.S.C. 552a(e)(4) and (11) this notice is effective upon publication, subject to a 30-day notice and comment period in which to comment on the routine uses described in the routine uses section of this system of records notice. Please submit any comments by March 27, 2023.

ADDRESSES: Interested parties may submit written comments by one of the following methods:

• Preferred: Federal eRulemaking Portal at http://www.regulations.gov provides the ability to type short comments directly into the comment field on this web page or attach a file for lengthier comments. Follow the online instructions at that site for submitting comments.

• By email: FNS, SNAP, State Administration Branch (SAB) at SM.FN.SNAPSAB@usda.gov.

• By mail: Maribelle Balbes, Branch Chief, SAB, SNAP, FNS, 1320 Braddock Place, Alexandria, VA 22314.

• Instructions: All comment submissions must include the agency name and docket number for this rulemaking. All comments received will be posted without change to http://www.regulations.gov, including any personal information provided.

• Docket: For access to the docket to read background documents or comments received go to http://www.regulations.gov.

FOR FURTHER INFORMATION CONTACT: For general questions, please contact the above individual, Maribelle Balbes, Branch Chief, SAB, SNAP, FNS at Maribelle.Balbes@usda.gov or 703-605-4272.

For Privacy Act questions concerning this system of records notice, please contact Mr. Michael Bjorkman, Privacy Officer, USDA, FNS, Information Management Branch, Braddock Metro Center II, 1320 Braddock Place, Alexandria, VA 22314; (703) 305-1627.

For general USDA Privacy Act questions, please contact the USDA Chief Privacy Officer, Information Security Center, Office of Chief Information Officer, USDA, Jamie L. Whitten Building, 1400 Independence Ave. SW, Washington, DC 20250; email: USDAPrivacy@ocio.usda.gov.

SUPPLEMENTARY INFORMATION:

Statutory Basis

The Agriculture Improvement Act of 2018 (Pub. L. 115-334, “the 2018 Farm Bill”), amended Section 11 of the Food and Nutrition Act of 2008 (7 U.S.C. 2020, “the Act”) to require FNS to establish an interstate data system to be known as the National Accuracy Clearinghouse (NAC) and to promulgate regulations to set requirements for use of the NAC. The Act requires State agencies to participate in the NAC matching program as both providers of data to the NAC and users of the information in the NAC that has been provided by the other State agencies to prevent individuals from receiving SNAP benefits in more than one State agency simultaneously, commonly referred to as duplicate participation.

Background

FNS is promulgating regulations to codify the NAC implementation requirements pursuant to the amendments to the Act and to ensure compliance and alignment with existing statutory and regulatory requirements, including the Privacy Act (5 U.S.C. 552a) requirements for computer matching programs.

Under existing regulations, an individual may not receive SNAP benefits from more than one State agency in the same benefit month. However, States are limited in their ability to access timely information to enforce this requirement because State agencies maintain the records for SNAP participants in their own States. The NAC will assist State agencies in preventing and detecting duplicate participation by providing a secure method for sharing current information with each other for this purpose.

Each State agency will provide information about current SNAP participants to the NAC. State agencies will then conduct matches against the NAC to determine if someone is already receiving SNAP benefits in any other State as part of the process of determining an individual's eligibility for SNAP. The NAC will also compare information provided by State agencies to detect existing duplicate participation and will notify State agencies when such matches are found.

Privacy Act

The Privacy Act of 1974 (the Privacy Act), 5 U.S.C. 552a, embodies fair information principles in a statutory framework governing the means by which the United States Government collects, maintains, uses, and disseminates personally identifiable information. The Privacy Act applies to information that is maintained in a system of records (SOR). A SOR is a group of any records under the control of an agency for which information is retrieved by the name of an individual or by some identifying number, symbol, or other identifying particular assigned to the individual. In the Privacy Act, an individual is defined to encompass United States citizens and legal permanent residents.

The Privacy Act requires each agency to publish in the Federal Register a description denoting the type and character of each system of records that the agency maintains, the routine uses that are contained in each system in order to make agency record keeping practices transparent, to notify individuals regarding the uses to which personally identifiable information is put, and to assist individuals to more easily find such records within the agency. Below is the description of the NAC system of records.

In accordance with 5 U.S.C. 552a(r), USDA has provided a report of this new system to the Office of Management and Budget and to Congress.

SYSTEM NAME AND NUMBER:

USDA/FNS-14, Supplemental Nutrition Assistance Program (SNAP), National Accuracy Clearinghouse (NAC) System to Detect Duplicate Participation.

SECURITY CLASSIFICATION:

Unclassified.

SYSTEM LOCATION:

The NAC is maintained in the USDA Azure cloud infrastructure environment that is used only by Federal employees and contractors and State agency employees and contractors. The data is processed and stored solely within the continental United States. The agency, U.S. Department of Agriculture, address is 1400 Independence Ave. SW, Washington, DC 20250 and the address of the third-party service provider is Microsoft, 1 Microsoft Way, Redmond, Washington 98052-6399.

SYSTEM MANAGER(S):

Director, Portfolio Management Division, Office of Information Technology, Food and Nutrition Service, 1320 Braddock Road, Alexandria, Virginia 22314. Telephone: (703) 305-2504.

AUTHORITY FOR MAINTENANCE OF THE SYSTEM:

Section 11(x) of the Food and Nutrition Act of 2008, as amended (7 U.S.C. 2020(x)).

PURPOSE(S) OF THE SYSTEM:

The NAC will improve program access and customer experience by facilitating state to state communication to help State agencies promptly and accurately process SNAP recipient moves from one state to another and to enhance program integrity by providing State agencies with a tool to screen for duplicate participation to allow timely action to reduce improper payments.

Disclosure of Information:

Data protection requirements in section 11 of the Act (7 U.S.C. 2020(x)(2)(C)) restrict the disclosure of information made available by State agencies to the NAC. The data in the NAC shall only be used for the purpose of preventing duplicate participation in SNAP, shall only be retained as long as necessary to meet that need, shall be used in a manner that protects the identity and location of vulnerable individuals, and is exempt from the disclosure requirements of section 552(a) of title 5 pursuant to section 552(b)(3) of title 5. Accordingly, the information shall only be disclosed to persons directly connected with the administration or enforcement of the provisions of the Act or SNAP regulations.

CATEGORIES OF INDIVIDUALS COVERED BY THE SYSTEM:

Categories of individuals covered by this system are individuals who are currently receiving SNAP benefits and applicants for SNAP benefits.

CATEGORIES OF RECORDS IN THE SYSTEM:

The system contains the following categories of records: information on SNAP participants and applicants, SNAP case information, and match resolution information. SNAP participant and applicant names, social security numbers, and dates of birth are used by the State agencies to find a positive match. However, these identifiers are not uploaded directly to the NAC. In order to protect participant information, State agencies will use a privacy-preserving record linkage (PPRL) process to convert these data elements to a secure cryptographic hash before sharing the information to the NAC. The PPRL process allows the NAC to accurately match individuals, while preventing the collection and storage of the names, social security numbers, and dates of birth in the NAC system. A positive match is identified by the NAC when two or more hashes match. State agencies are also required to provide a participant ID to the NAC to allow the State agency to connect the match in the NAC to an individual in the State agency's system. In other words, the participant ID is used to help the State agency resolve a match. When a match is found, the NAC will create a match record with a unique system-generated match ID and notify the affected State agencies of the match. State agencies will use the participant ID they provided previously, now included in the match record, to find the matched individual in the State agency's eligibility system. Additionally, there is a vulnerable individual flag that must be used, if applicable, to denote an individual that needs their identity and location protected when resolving the match.

Furthermore, information about SNAP cases are provided to assist State agencies with communication in determining the appropriate actions to take in resolving a NAC match. This case information for communication may include case number, recent certification dates, and participant closing date. To enhance program integrity and provide program oversight, the system may also contain information about the resolution of NAC matches.

RECORD SOURCE CATEGORIES:

Information in this system is provided by State agencies that administer SNAP.

ROUTINE USES OF RECORDS MAINTAINED IN THE SYSTEM, INCLUDING CATEGORIES OF USERS AND PURPOSES OF SUCH USES:

Records created in this system may be disclosed, as part of a computer matching program, to Federal and State agency personnel responsible for monitoring duplicate participation in SNAP, as required by section 11(x) of the FNA (7 U.S.C. 2020(x)). Disclosure of records in this system may also be made for the permitted routine uses outlined below as long as such uses are also authorized by section 11(x) of the FNA (7 U.S.C. 2020(x)).

Permitted routine uses include the following:

(1) To the Department of Justice when: (a) USDA/FNS or any component thereof; or (b) any employee of USDA in his or her official capacity, or any employee of the agency in his or her individual capacity where the Department of Justice has agreed to represent the employee; or (c) the United States Government, is a party to litigation or has an interest in such litigation, and USDA determines that the records are both relevant and necessary to the litigation and the use of such records by the Department of Justice is deemed by USDA to be for a purpose that is compatible with the purpose for which USDA collected the records.

(2) In an appropriate proceeding before a court, grand jury, or administrative or adjudicative body or official, when the USDA/FNS or other Agency representing the USDA, determines that the records are both relevant and necessary to the proceeding; or in an appropriate proceeding before an administrative or adjudicative body when the adjudicator determines the records to be relevant and necessary to the proceeding.

(3) To a congressional office in response to an inquiry from that congressional office made at the written request of the individual about whom the record pertains.

(4) To the National Archives and Records Administration or other Federal government agencies pursuant to records management activities being conducted under 44 U.S.C. 2904 and 2906.

(5) To an agency, organization, or individual for the purpose of performing audit or oversight operations as authorized by law, but only such information as is necessary and relevant to such audit or oversight function.

(6) To another Federal agency or Federal entity, when USDA/FNS determines that information from this system of records is reasonably necessary to assist the recipient agency or entity in: (1) responding to a suspected or confirmed breach or (2) preventing, minimizing, or remedying the risk of harm to individuals, the recipient agency or entity (including its information systems, programs, and operations), the Federal Government, or national security, resulting from a suspected or confirmed breach.

(7) To appropriate agencies, entities, and persons when: (1) USDA/FNS suspects or has confirmed that there has been a breach of the system of records; (2) USDA/FNS has determined that as a result of the suspected or confirmed breach there is a risk of harm to individuals, USDA (including its information systems, programs, and operations), the Federal Government, or national security; and (3) the disclosure made to such agencies, entities, and persons is reasonably necessary to assist in connection with USDA's efforts to respond to the suspected or confirmed compromise and prevent, minimize, or remedy such harm.

(8) To contractors and their agents, grantees, experts, consultants, and other performing or working on a contract, service, grant, cooperative agreement, or other assignment for the USDA/FNS, when necessary to accomplish an agency function related to this system of records.

(9) When a record on its face, or in conjunction with other records, indicates a violation or potential violation of law, whether civil, criminal or regulatory in nature, and whether arising by general statute or particular program statute, or by regulation, rule, or order issued pursuant thereto, USDA/FNS may disclose the record to the appropriate agency, whether Federal, foreign, State, local, or tribal, or other public authority responsible for enforcing, investigating, or prosecuting such violation or charged with enforcing or implementing the statute, or rule, regulation, or order issued pursuant thereto, if the information disclosed is relevant to any enforcement, regulatory, investigative or prosecutive responsibility of the receiving entity.

POLICIES AND PRACTICES FOR STORAGE OF RECORDS:

The NAC will be hosted in the USDA Azure Cloud infrastructure environment, which is FedRAMP certified. These records are electronic.

POLICIES AND PRACTICES FOR RETRIEVAL OF RECORDS:

User permission levels provide users with access to only the features and data needed within their assigned role. State agency workers who are granted access to the NAC can conduct matches against the NAC through a real-time query from the State agency's eligibility system or from directly within the NAC. The individual's name, Social Security number, and date of birth are converted to a secure cryptographic hash before the information is compared against the NAC for interstate matching. When a positive match is found, based on matching hashes, the NAC creates a match record with a unique system-generated match ID. Match records in the NAC can be retrieved by the match ID. Both State agency users and FNS staff members who are granted access to the NAC will have access to the match records to perform program administration and oversight duties. FNS staff members will also have access to monitor system metrics. Only FNS staff members with system administrator-level access to maintain the NAC system will have the ability to access the secure cryptographic hashes.

POLICIES AND PRACTICES FOR RETENTION AND DISPOSAL OF RECORDS:

State agencies will generally provide SNAP participant records to the NAC daily and new submissions will replace prior submissions to ensure matching is conducted against the most current, accurate information possible. When positive matches are found, indicating potential or actual duplicate participation, the match records created by the NAC will be retained for up to three years for program administration, oversight, and audit purposes. Summary or aggregate data maintained for reporting and oversight purposes will be retained in the system indefinitely.

The NAC does not yet have a NARA-approved records schedule. The proposed schedule provided to NARA for review and approval, dictates that the different information sets will be retained for different periods of time, as described above. All NAC system records except the files provided daily by State agencies will be kept indefinitely until NARA has approved the proposed records schedule for the NAC.

ADMINISTRATIVE, TECHNICAL, AND PHYSICAL SAFEGUARDS:

Administrative Safeguards: USDA safeguards records in this system according to applicable rules and policies, including all applicable USDA automated systems security and access policies. USDA has imposed strict controls to minimize the risk of compromising information in the system. Access to the computer system containing the records in this system is limited to those individuals who have a need to know the information for the performance of their official duties and who have appropriate clearances or permissions.

Technical Safeguards: The NAC will utilize a robust collection of technical safeguards to ensure the integrity of the platform. The NAC is designed to meet all technical safeguards required by its system categorization in NIST 800-53. The NAC will be hosted in a secure server environment that uses a firewall to prevent interference or access from outside intruders. When accessing the NAC, Secure Socket Layer (SSL) technology protects the user's information by using both server authentication and data encryption. The NAC administrators will have a suite of security tools that can be used to increase the security of the system.

To protect sensitive participant and applicant data, names, dates of birth, and social security numbers will go through a PPRL process. This process includes the data elements being combined and masked by a SHA-512 hash by States prior to sharing that data with the NAC. To mitigate against the risk of incoming participant data files being exfiltrated, the entire message will be encrypted before it is sent to the NAC. To mitigate against the risk of PII saved in the NAC databases being exfiltrated (e.g., the State ID and the hash of name, date of birth, and SSN), that data will be additionally encrypted at the database column level.

Physical Safeguards: The servers that host the NAC are stored in a FedRAMP authorized data center with strict physical access control procedures in place to prevent unauthorized access.

RECORD ACCESS PROCEDURES:

Personal information contained in this system is provided by the State agency where the individual is a SNAP participant or applicant. Individuals may obtain information about records in the system pertaining to them by submitting a written request to the system manager listed above. The envelope and the letter should be marked “Privacy Act Request,” and should include the name of the individual making the request, the name of the system of records, any other information specified in the system notice and a statement of whether the requester desires to be supplied with copies by mail or email. Individuals may also directly contact the applicable State agency or local SNAP office.

Requests to the system manager must also include sufficient data for FNS to verify your identity. If the sensitivity of the records warrants it, FNS may require that you submit a signed, notarized statement indicating that you are the individual to whom the records pertain and stipulating that you understand that knowingly or willfully seeking or obtaining access to records about another individual under false pretenses is a misdemeanor punishable by fine up to $5,000. No identification shall be required, unless the records are required by 5 U.S.C. 552 to be released. If FNS determines to grant the requested access, fees may be charged in accordance with 7 CFR part 1, subpart G, 1.120 before making the necessary copies. In place of a notarization, your signature may be submitted under 28 U.S.C. 1746, a law that permits statements to be made under penalty of perjury as a substitute for notarization.

CONTESTING RECORD PROCEDURES:

Individuals desiring to contest or amend information maintained in the system should direct their requests to the System Manager listed above or to the State agency that provided the data. The request should identify each record in question, state the amendment or correction desired, and state why the individual believes that the record is not accurate, relevant, timely, or complete. The individual may submit any documentation that would be helpful. Requests sent to the system manager will be shared to the State agency that provided the data for resolution. This request must follow the procedures set forth in 7 CFR part 1, subpart G, 1.116 (Request for correction or amendment to record).

FNS is not able to change information about individuals within the NAC. State agencies serve as the authoritative source for the information they provide and are accountable for providing accurate information from their system to the NAC.

NOTIFICATION PROCEDURES:

Any individual may request information regarding this system of records, or information as to whether the system contains records pertaining to the individual, from the System Manager listed above: See RECORD ACCESS PROCEDURES.

EXEMPTIONS PROMULGATED FOR THE SYSTEM:

None.

HISTORY:

None.

Cynthia Long,
Administrator, Food and Nutrition Service.

[FR Doc. 2023-03706 Filed 2-22-23; 8:45 am]

BILLING CODE 3410-30-P